FEDERAL MARITIME COMMISSION

46 CFR Part 541

[Docket No. FMC-2022-0066]

RIN 3072-AC90

Demurrage and Detention Billing Requirements

Correction

In rule document 2024-10515 appearing on page 41895 in the issue of Tuesday, May 14, 2024, make the following correction:

In the second column, starting in the twenty-eighth line, the DATES section is corrected to read:

DATES: This rule is effective on May 28, 2024. The amendments adding 46 CFR 541.6 (instruction 2) and 541.99 (instruction 3), published on February 26, 2024 (89 FR 14330), are effective on May 28, 2024.

[FR Doc. C1-2024-10515 Filed 5-23-24; 8:45 am]

BILLING CODE 0099-10-P